DEPARTMENT OF HOUSING AND URBAN DEVELOPMENT

[Docket Number FR-5822-N-01]

Announcement of Availability of Notice on Required Actions for Multifamily Housing Projects Receiving Failing Scores From HUD's Real Estate Assessment Center (REAC)

AGENCY: Office of the Assistant Secretary for Housing—Federal Housing Commissioner, HUD.

ACTION: Announcement of availability of notice on certain required actions for projects with failing REAC scores.

SUMMARY: Section 230 of HUD's Fiscal Year 2014 Appropriations Act and Section 226 of HUD's Fiscal Year 2015 Appropriations Act require HUD to take certain actions if a multifamily housing project with a section 8 contract or with a contract with similar project-based project assistance receives a failing score by REAC. This notice announces the availability on HUD's Web site of the notice specifying the required actions that HUD must take for multifamily projects receiving failing REAC scores. The notice is Housing Notice is H 2015-2, which can be found at http://portal.hud.gov/hudportal/documents/huddoc?id=15-02hsgn.pdf.

FOR FURTHER INFORMATION CONTACT: Brandt Witte, Office of Multifamily Housing Asset Management and Portfolio Oversight, Department of Housing and Urban Development, 451 7th Street SW., Room 6178, Washington, DC 20410-8000; telephone number 202-402-2614 (this is not a toll-free number). Persons with hearing or speech impairments may access this number through TTY by calling the toll-free Federal Relay Service at 800-877-8339.

SUPPLEMENTARY INFORMATION: HUD's Fiscal Year (FY) 2014 Appropriations Act is found in Title II of Division L of the Consolidated Appropriations Act, 2014 (Pub. L. 113-76, approved January 17, 2014). HUD's FY 2015 Appropriations Act is found in Title II of Division K of the Consolidated and Further Continuing Appropriations Act of 2015 (Pub. L. 113-235, approved December 16, 2014). Section 230 of the general provisions of HUD's FY 2014 Appropriations Act and section 226 of the general provisions of HUD's FY 2015 Appropriations Act require HUD to take certain actions if a multifamily housing project with a section 8 contract or with a contract for similar project-based assistance receives a failing REAC physical inspection score.¹ The statutorily required actions apply to projects insured by HUD's Federal Housing Administration (FHA) and non-insured projects. The two statutory sections are identical. This notice advises the public that HUD has posted on its Web site the Office of Housing notice detailing the required actions that HUD must take in accordance with section 230. This notice can be found at the Web site shown under the Summary section of this notice.

¹ The Real Estate Assessment Center's (REAC) mission is to provide and promote the effective use of accurate, timely and reliable information assessing the condition of HUD's portfolio; to provide information to help ensure safe, decent and affordable housing; and to restore the public trust by identifying fraud, abuse and waste of HUD resources. REAC undertakes physical inspections of all HUD housing.

Dated: February 24, 2015.
Biniam Gebre,
Acting Assistant Secretary for Housing, Federal Housing Commissioner.

[FR Doc. 2015-04261 Filed 2-27-15; 8:45 am]

BILLING CODE 4210-67-P